ENVIRONMENTAL PROTECTION AGENCY

[FRL-6985-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held June 13-15, 2001 at the Hotel Washington, Washington, DC. The CHPAC was created to advise the Environmental Protection Agency in the development of regulations, guidance and policies to address children's environmental health.

DATES: Wednesday, June 13, 2001, Science Work Group meeting only; plenary sessions Thursday, June 14 and Friday, June 15, 2001.

ADDRESSES: Hotel Washington, 515 15th Street, NW., Washington, DC.

Agenda Items: The meetings of the CHPAC are open to the public. The Science and Research Work Group will meet from 9 a.m. to 5 p.m The plenary CHPAC will meet on Thursday, June 14 from 9 a.m. to 5:30 p.m., with a public comment period at 5 p.m., and on Friday, June 15 from 9 a.m. to 12:30 p.m.

The plenary session will open with introductions and a review of the agenda and objectives for the meeting. Agenda items include highlights of the Office of Children's Health Protection (OCHP) activities and a report from the Science Work Group, a discussion on retrospective and continuing priorities of the CHPAC, a panel on EPA national program initiatives in schools, a panel on case examples of EPA regional initiatives in schools, a discussion on next steps concerning EPA initiatives in schools, and an update on EPA's state initiatives on children's environmental health.

FOR FURTHER INFORMATION CONTACT: Contact Paula R. Goode, Office of Children's Health Protection, USEPA, MC 1107A, 1200 Pennsylvania Avenue, NW., Washington, DC 20460, (202) 564-2702, goode.paula@epa.gov.

Dated: May 14, 2001.
Paula R. Goode,
Designated Federal Officer, Children's Health Protection Advisory Committee.

[FR Doc. 01-13415 Filed 5-25-01; 8:45 am]

BILLING CODE 6560-50-P